DEPARTMENT OF ENERGY

Advanced Scientific Computing Advisory Committee

AGENCY: Office of Science, Department of Energy.

ACTION: Notice of open meeting.

SUMMARY: This notice announces a meeting of the Advanced Scientific Computing Advisory Committee (ASCAC). The Federal Advisory Committee Act requires that public notice of these meetings be announced in the Federal Register.

DATES:

Tuesday, December 20, 2016

8:30 a.m.-5:30 p.m.

Wednesday, December 21, 2016

8:30 a.m.-12:00 p.m.

ADDRESSES: American Geophysical Union, (AGU), 2000 Florida Avenue NW., Washington, DC 20009.

FOR FURTHER INFORMATION CONTACT: Christine Chalk, Office of Advanced Scientific Computing Research; SC-21/Germantown Building; U.S. Department of Energy; 1000 Independence Avenue SW; Washington, DC 20585; Telephone (301) 903-7486

SUPPLEMENTARY INFORMATION:

Purpose of the Committee: The purpose of the committee is to provide advice and guidance on a continuing basis to the Office of Science and to the Department of Energy on scientific priorities within the field of advanced scientific computing research.

Purpose of the Meeting: This meeting is the semi-annual meeting of the Committee.

Tentative Agenda Topics

• View from Germantown

• Economic Models for Return on Investment in High Performance Computing

• Update on Exascale project activities

• Update from Subcommittee on Laboratory Directed Research and Development

• New Charge for Committee of Visitors for Research programs

• Technical presentations

• Public Comment (10-minute rule)

The meeting agenda includes an update on the budget, accomplishments and planned activities of the Advanced Scientific Computing Research program; an update on exascale computing project activities; a briefing from IDC on progress in developing their economic models for estimating the Return on Investment in High Performance Computing; a new charge to form a Committee of Visitors to review the Advanced Scientific Computing Research efforts; a technical for presentation from an exascale researcher; and there will be an opportunity comments from the public. The meeting will conclude at noon on December 21, 2016. Agenda updates and presentations will be posted on the ASCAC Web site prior to the meeting: http://science.energy.gov/ascr/ascac/.

Public Participation: The meeting is open to the public. Individuals and representatives of organizations who would like to offer comments and suggestions may do so during the meeting. Approximately 30 minutes will be reserved for public comments. Time allotted per speaker will depend on the number who wish to speak but will not exceed 10 minutes. The Designated Federal Officer is empowered to conduct the meeting in a fashion that will facilitate the orderly conduct of business.

Those wishing to speak should submit your request at least five days before the meeting. Those not able to attend the meeting or who have insufficient time to address the committee are invited to send a written statement to Christine Chalk, U.S. Department of Energy, 1000 Independence Avenue SW., Washington DC 20585, email to Christine.Chalk@science.doe.gov.

Minutes: The minutes of this meeting will be available within 90 days on the Advanced Scientific Computing Web site at http://science.energy.gov/ascr/ascac/.

Issued at Washington, DC on November 23, 2016.
LaTanya R. Butler,
Deputy Committee Management Officer.

[FR Doc. 2016-28877 Filed 11-30-16; 8:45 am]

BILLING CODE 6450-01-P